ENVIRONMENTAL PROTECTION AGENCY

[ER-FRL-6693-9]

Environmental Impacts Statements; Notice of Availability

Responsible Agency: Office of Federal Activities, General Information (202) 564-7167 or http://www.epa.gov/compliance/nepa/.

Weekly receipt of Environmental Impact Statements Filed 12/03/2007 through 12/07/2007 Pursuant to 40 CFR 1506.9.

EIS No. 20070511, Final EIS, BLM, AK, Bay Resource Management Plan, Implementation, Located within the Bristol Bay and Goodnews Bay Areas, AK, Wait Period Ends: 01/14/2008, Contact: Chuck Denton 907-267-1246.

EIS No. 20070512, Draft EIS, FHW, TX, Tier 1 DEIS—I-69/Trans-Texas Corridor Study, Improvement to International, Interstate and Intrastate Movement of Good and People, Louisiana-Mexico/Northeast Texas to Mexico, Comment Period Ends: 03/19/2008, Contact: Donald Davis 512-536-5900.

EIS No. 20070513, Final EIS, FHW, TX, Grand Parkway/TX-99 Segment E Improvement Project, IH-10 to U.S. 290, Funding, Right-of-Way Grant and U.S. Army COE Section 404 Permit Issuance, Harris County, TX, Wait Period Ends: 01/14/2008, Contact: Donald Davis 512-536-5960.

EIS No. 20070514, Draft EIS, AFS, CO, San Juan Public Lands, Draft Land Management Plan (DLMP), Implementation, San Juan National Forest, Archuleta, Conejos, Dolores, Hinsdale, LaPlata, Mineral, Montezuma, Montrose, Rio Grande, San Juan and San Miguel Counties, CO, Comment Period Ends: 03/12/2008, Contact: Gary Thrash 970-247-4874.

EIS No. 20070515, Final Supplement, FHW, IA, IA-100 Extension Around Cedar Rapids, Edgewood Road to U.S. 30, Reevaluation of the Project Corridor and Changes in Environmental Requirements, Funding and U.S. Army COE 404 Permit Issuance, Linn County, IA, Wait Period Ends: 01/14/2008, Contact: Phillip E. Barnes 515-233-7300.

EIS No. 20070516, Final EIS, FHW, DE, U.S. 301 Project Development, Transportation Improvements from MD State Line to DE-1, South of the Chesapeake and Delaware Canal, New Castle County, DE, Wait Period Ends: 01/14/2008, Contact: Robert Kleinburd 302-734-2966.

EIS No. 20070517, Draft EIS, USA, MD, National Naval Medical Center, Activities to Implement 2005 Base Realignment and Closure Actions, Construction and Operation of New Facilities for Walter Reed National Military Medical Center, Bethesda, MD, Comment Period Ends: 01/28/2008, Contact: Andrew Gutberlet 301-295-2722.

EIS No. 20070518, Draft EIS, COE, PA, Southern Beltway Transportation Project, Transportation Improvement between I-79 to Mon/Fayette Expressway (PA Turnpike 43), Application for U.S. Army COE Section 404 Permit, Washington County, PA, Comment Period Ends: 02/08/2008, Contact: Scott A. Hans 412-395-7152.

EIS No. 20070519, Draft EIS, AFS, MO, Cooney McKay Forest Health and Fuels Reduction Project, Proposed to Restore Desirable Vegetative Conditions, Swan Valley near Condon, Swan Lake Ranger District, Flathead National Forest, Lake and Missoula Counties, MT, Comment Period Ends: 01/28/2008, Contact: Steve Brady 406-837-7501.

EIS No. 20070520, Final EIS, FHW, NY, NY-17—Elmira to Chemung Project, Proposed Highway Reconstruction, New Highway Construction, Bridge Rehabilitation/Replacement, Funding and U.S. Army COE Section 404 Permit, Town and City of Elmira, Town of Ashland and Chemung, Chemung County, NY, Wait Period Ends: 01/28/2008, Contact: Amy Jackson-Grove 518-431-4127.

EIS No. 20070521, Draft Supplement, NOA, 00, Reef Fish Amendment 30A: Greater Amberjack—Revise Rebuilding Plan, Accountability Measures: Gray Triggerfish—Establish Rebuilding Plan, End Overfishing, Accountability Measures, Regional Management, Management Thresholds and Benchmarks, Gulf of Mexico, Comment Period Ends: 01/28/2008, Contact: Roy E. Crabtree, MD 727-824-5701.

Amended Notices

EIS No. 20070021, Draft Supplement, BLM, MT, Montana Statewide Oil and Gas, Development Alternative for Coal Bed Natural Gas Production and Amendment of the Powder River and Billings Resource Management Plans, Additional Information Three New Alternatives, Implementation, U.S. Army COE Section 404 Permit, NPDES Permit, Several Cos, MT, Comment Period Ends: 03/13/2008, Contact: Mary Bloom 406-233-2852.

Revision to FR Notice Published 02/02/2007: Reopening of the Comment Period is Only for the Supplemental Air Quality Analysis Portion for the above DSEIS from 05/02/2007 to 03/13/2008.

EIS No. 20070411, Draft EIS, FRC, NC, Yadkin—Yadkin-Pee Dee Hydro Electric Project (Docket Nos. P-2197-073 & P-2206-030), Issuance of New Licenses for the Existing and Proposed Hydropower Projects, Yadkin—Yadkin-Pee Dee Rivers, Davidson, Davie, Montgomery, Rowan, Stanly, Anson and Richmond Counties, NC, Comment Period Ends: 12/10/2007, Contact: Andy Black 1-866-208-3372.

Revision of FR Notice Published 10/05/2007: Extending Comment Period from 12/03/2007 to 12/10/2007.

Dated: December 11, 2007.
Robert W. Hargrove,
Director, NEPA Compliance Division, Office of Federal Activities.

[FR Doc. E7-24227 Filed 12-13-07; 8:45 am]

BILLING CODE 6560-50-P